DEPARTMENT OF HOMELAND SECURITY

Coast Guard

[Docket No. USCG-2011-0724]

RIN 1625-1148

Lower Mississippi River Waterway Safety Advisory Committee

AGENCY: Coast Guard, DHS.

ACTION: Notice of Federal Advisory Committee Meeting.

SUMMARY: The Lower Mississippi River Waterway Safety Advisory Committee (LMRWSAC) will hold its bi-annual meeting on December 6, 2011, in New Orleans, Louisiana. The meeting will be open to the public.

DATES: LMRWSAC will meet on Tuesday, December 6, 2011, from 9 a.m. to 12 p.m. Please note that the meeting may close early if the committee has completed its business. Written materials and requests to make oral presentation should reach the Coast Guard on or before November 21, 2011.

ADDRESSES: The meeting will be held at the U.S. Coast Guard Sector New Orleans Building, 200 Hendee Street, New Orleans, Louisiana 70114, First Floor, Training Room A.

For information on facilities or services for individuals with disabilities or to request special assistance at the meeting, contact LCDR Marcie Kohn as soon as possible.

To facilitate public participation, we are inviting public comment on the issues to be considered by the committee as listed by the “Agenda” section below. Comments must be submitted in writing no later than November 21, 2011 and must be identified by USCG-2011-0724 and may be submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue, SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read background documents or comments related to this notice, go to http://www.regulations.gov, enter the docket number for this notice (USCG-2011-0724) in the “Keyword” box, and then click “Search.”

A public comment period will be held at the end of the meeting on December 6, 2011 from 9 a.m until 12 p.m. Speakers are requested to limit their comments to 10 minutes. Please note that the public comment period may end before the time indicated, following the last call for comments.

Contact the individual listed below to register as a speaker.

FOR FURTHER INFORMATION CONTACT: Lieutenant Marcie Kohn, Assistant Designated Federal Officer of the Lower Mississippi River Waterway Safety Advisory Committee, telephone 504-365-2281 or e-mail at Marcie.L.Kohn@uscg.mil. If you have questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463). The LMRWSAC is an advisory committee authorized in Section 19 of the Coast Guard Authorization Act of 1991, (Pub. L. 102-241) as amended by section 621 of the Coast Guard Authorization Act of 2010 (Pub. L. 111-281) and chartered under the provisions of FACA. LMRWSAC provides advice and recommendations to the Department of Homeland Security on matters relating to communications, surveillance, traffic management, anchorages, development and operation of New Orleans Vessel Traffic Service (VTS), and other related topics dealing with navigation safety on the Lower Mississippi River (LMR) as required by the U.S. Coast Guard.

Agenda

(1) Opening comments by Chairman;

(2) Introduction of committee members and distinguished guests;

(3) Approval of the March 24th, 2011 meeting minutes;

(4) Remarks from Coast Guard Captain of the Port, Captain Peter Gautier, Commander, Sector New Orleans, Designated Federal Officer (DFO) of LMRWSAC;

(5) Remarks from Rear Admiral R. A. Nash, Commander 8th Coast Guard District;

(6) Committee Administration issues to include nomination and selection of Vice-Chairman;

(7) Baton Rouge LA Vessel Traffic Operations report;

(8) Discussion on possible establishment of Belmont Anchorage;

(9) U.S. Army Corps of Engineers report on Dredging Operations;

(10) National Oceanic and Administration report;

(11) Public Comments/Presentations;

(12) Adjournment.

Reports and Meeting Minutes: The reports which will be discussed by the Committee and minutes of the meeting may be viewed in our online docket. Go to http://www.regulations.gov, enter the docket number for this notice (USCG-2011-0724) in the “Keyword” box, and then click “Search.”

Dated: October 12, 2011.
P. Troedsson,
Captain, U.S. Coast Guard, Acting Commander, Eighth Coast Guard District.

[FR Doc. 2011-27643 Filed 10-25-11; 8:45 am]

BILLING CODE 9110-04-P